NATIONAL AERONAUTICS AND SPACE ADMINISTRATION

[Notice (10-045)]

Notice of Centennial Challenges 2011 CAFE Green Flight Challenge

AGENCY: National Aeronautics and Space Administration (NASA).

ACTION: Notice of Centennial Challenges 2011 CAFE Green Flight Challenge.

SUMMARY: This notice is issued in accordance with 42 U.S.C. 2451(314)(d). The 2011 CAFE Green Flight Challenge is scheduled and teams that wish to compete may register. Centennial Challenges is a program of prize competitions to stimulate innovation in technologies of interest and value to NASA and the nation. The 2011 CAFE Green Flight Challenge is a prize competition designed to bring about the development of new aviation technologies that can greatly improve the efficiency of future air vehicles while meeting minimum speed and range requirements, maintaining or enhancing safety features and reducing noise. It is being administered for NASA by the Comparative Aircraft Flight Efficiency (CAFE) Foundation. NASA is providing the prize purse.

DATES: 2011 CAFE Green Flight Challenge will be held on July 10 through July 17, 2011.

ADDRESSES: 2011 CAFE Green Flight Challenge will be held at the CAFE Flight Test Center at the Charles M. Schulz—Sonoma County Airport in Santa Rosa, California.

FOR FURTHER INFORMATION CONTACT: To register for or to get additional information regarding the 2011 CAFE Green Flight Challenge, please visit: http://cafefoundation.org/v2/gfc_main.php.

For general information on the NASA Centennial Challenges Program, please visit: http://www.nasa.gov/challenges. General questions and comments regarding the program should be addressed to Mr. Andrew Petro, Centennial Challenges Program, Innovative Partnerships Program Office, NASA Headquarters, 300 E Street, SW., Washington, DC 20546-0001. E-mail address: andrew.j.petro@nasa.gov.

SUPPLEMENTARY INFORMATION:

Summary

For the 2011 CAFE Green Flight Challenge, competitors will demonstrate new aviation technologies that can greatly improve the efficiency of future air vehicles while meeting minimum speed and range requirements, maintaining or enhancing safety features and reducing noise.

I. Prize Amounts

The total 2011 CAFE Green Flight Challenge purse is $1,653,000 (one million, six hundred fifty three thousand U.S. dollars). The main prize of $1,500,000 (one million, five hundred thousand U.S. dollars) is for the aircraft that meet the minimum performance and safety requirements with the best combination of efficiency and speed based on the formula detailed in the rules. There is an additional “Bio-fuel” prize of $150,000 (one hundred fifty thousand U.S. dollars) for aircraft that meet the minimum performance and safety requirements with the best combination of efficiency and speed among those using only a bio-fuel as defined in the rules. There is an honorary achievement prize of $153,000 (one hundred fifty-three thousand U.S. dollars) that will be awarded if at least three teams are competing and no main prize is won, for the aircraft with the best combination of efficiency and speed that meets a lower set of established performance requirements, as detailed in the rules.

II. Eligibility

To be eligible to win a prize, competitors must (1) register and comply with all requirements in the rules and team agreement; (2) in the case of a private entity, shall be incorporated in and maintain a primary place of business in the United States, and in the case of an individual, whether participating singly or in a group, shall be a citizen or permanent resident of the United States; and (3) shall not be a Federal entity or Federal employee acting within the scope of their employment.

III. Rules

The complete rules and team agreement for the 2011 CAFE Green Flight Challenge can be found at: http://cafefoundation.org/v2/gfc_main.php.

Dated: April 14, 2010.
Douglas A. Comstock,
Director, Innovative Partnerships Program Office.

[FR Doc. 2010-9367 Filed 4-21-10; 8:45 am]

BILLING CODE 7510-13-P